DEPARTMENT OF ENERGY

Federal Energy Regulatory Commission

Combined Notice of Filings

Take notice that the Commission has received the following Natural Gas Pipeline Rate and Refund Report filings:

Filings Instituting Proceedings

Docket Numbers: RP22-348-000.

Applicants: Mojave Pipeline Company, L.L.C.

Description: § 4(d) Rate Filing: Annual Fuel and L & U Filing 2022 to be effective 1/1/2022.

Filed Date: 11/29/21.

Accession Number: 20211129-5184.

Comment Date: 5 p.m. ET 12/13/21.

Docket Numbers: RP22-349-000.

Applicants: WTG Hugoton, LP.

Description:

Filed Date: 11/29/21.

Accession Number: 20211129-5208.

Comment Date: 5 p.m. ET 12/13/21.

Docket Numbers: RP22-350-000.

Applicants: El Paso Natural Gas Company, L.L.C.

Description: § 4(d) Rate Filing: Article 11.2(a) Inflation Adjustment Filing 2022 to be effective 1/1/2022.

Filed Date: 11/29/21.

Accession Number: 20211129-5249.

Comment Date: 5 p.m. ET 12/13/21.

Docket Numbers: RP22-351-000.

Applicants: Gas Transmission Northwest LLC.

Description: Annual Fuel Adjustment Filing of Gas Transmission Northwest LLC under RP22-351.

Filed Date: 11/29/21.

Accession Number: 20211129-5286.

Comment Date: 5 p.m. ET 12/13/21.

Docket Numbers: RP22-352-000.

Applicants: Kern River Gas Transmission Company.

Description: § 4(d) Rate Filing: 2021 Housekeeping to be effective 12/31/2021.

Filed Date: 11/30/21.

Accession Number: 20211130-5000.

Comment Date: 5 p.m. ET 12/13/21.

Docket Numbers: RP22-353-000.

Applicants: Eastern Gas Transmission and Storage, Inc.

Description: § 4(d) Rate Filing: EGTS—January 1, 2022 Nonconforming Service Agreement to be effective 1/1/2022.

Filed Date: 11/30/21.

Accession Number: 20211130-5027.

Comment Date: 5 p.m. ET 12/13/21.

Docket Numbers: RP22-354-000.

Applicants: TransColorado Gas Transmission Company LLC.

Description: § 4(d) Rate Filing: Quarterly Fuel Gas and LU Reimbursement Update Filing to be effective 1/1/2022.

Filed Date: 11/30/21.

Accession Number: 20211130-5054.

Comment Date: 5 p.m. ET 12/13/21.

Docket Numbers: RP22-355-000.

Applicants: Dominion Energy Questar Pipeline, LLC.

Description: § 4(d) Rate Filing: Fuel Gas Reimbursement Percentage for 2022—Stmt of Rates Version 17 to be effective 1/1/2022.

Filed Date: 11/30/21.

Accession Number: 20211130-5066.

Comment Date: 5 p.m. ET 12/13/21.

Docket Numbers: RP22-356-000.

Applicants: El Paso Natural Gas Company, L.L.C.

Description: § 4(d) Rate Filing: Annual Fuel and L&U Filing 2022 to be effective 1/1/2022.

Filed Date: 11/30/21.

Accession Number: 20211130-5072.

Comment Date: 5 p.m. ET 12/13/21.

Docket Numbers: RP22-357-000.

Applicants: Gulf South Pipeline Company, LLC.

Description: § 4(d) Rate Filing: Cap Rel Neg Rate Agmts (Atlanta Gas 8438 releases eff 12-1-2021) to be effective 12/1/2021.

Filed Date: 11/30/21.

Accession Number: 20211130-5080.

Comment Date: 5 p.m. ET 12/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-57-004.

Applicants: Algonquin Gas Transmission, LLC.

Description: Compliance filing: AGT New York Delivery Surcharge 2021 Filing to be effective 1/1/2022.

Filed Date: 11/30/21.

Accession Number: 20211130-5044.

Comment Date: 5 p.m. ET 12/13/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2021.
Kimberly D. Bose,
Secretary.

[FR Doc. 2021-26382 Filed 12-3-21; 8:45 am]

BILLING CODE 6717-01-P